DEPARTMENT OF HEALTH AND HUMAN SERVICES

Health Resources and Services Administration

Agency Information Collection Activities: Submission to OMB for Review and Approval; Public Comment Request; Maternal and Child Health Bureau Performance Measures for Discretionary Grant Information System, OMB No. 0915-0298—Revision.

AGENCY: Health Resources and Services Administration (HRSA), Department of Health and Human Services.

ACTION: Notice.

SUMMARY: In compliance with of the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than September 5, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer at paperwork@hrsa.gov or call 301-443-3983.

SUPPLEMENTARY INFORMATION:

Information Collection Request Title: Maternal and Child Health Bureau (MCHB) Performance Measures for Discretionary Grant Information System (DGIS), OMB No. 0915-0298—Revision.

Abstract: Approval from OMB is sought to implement revisions to the MCHB Performance Measures for DGIS. The goals of the redesigned performance measures are to: (1) improve clarity and validity of DGIS forms; (2) increase alignment with MCHB's Strategic Plan and other performance measurement efforts; (3) produce timely, actionable data for program management; (4) support communications about the range of HRSA's maternal and child health (MCH) programs; (5) reduce the number and complexity of data collection forms; and (6) improve data quality.

The revised forms are grouped into two general categories: central measures and program specific measures. Central measures include basic, topical, activity, and outcome forms. There are four sets of program-specific forms. Grant programs are assigned forms based on their activities and individual grantees respond to only a limited number of forms that are relevant to their specific program. Many of these forms are specific to certain types of programs and are not required of all grantees.

HRSA intends to make three changes from what was outlined in the notice (88 FR 28566) published on May 4, 2023. In the Healthy Start Site Form, “Census Tract” has been added as an option to define service area and “Telehealth” has been added as a selection option for types of services provided. The DGIS postpartum measure in Healthy Start Form 11 will be aligned with the new Title V National Performance Measure for postpartum visit, changing the definition from “within 4-12 weeks” to “within 12 weeks.”

No public comments were received during the 60-day comment period.

No additional forms are proposed to be added, removed, or revised beyond what was specified in the May 4, 2023, notice. As noted in the May 4, 2023, notice, HRSA is removing 52 existing forms, revising 23 existing forms, and adding 25 new forms to the current information collection for MCHB DGIS. Forms and detail sheets showing the proposed revisions are available upon request.

Need and Proposed Use of the Information: The performance data collected through the DGIS serves several purposes, including grantee monitoring, program planning, performance reporting, and the ability to demonstrate alignment between MCHB discretionary programs and the Title V MCH Services Block Grant program. This revision will facilitate more efficient and accurate reporting of information related to Capacity Building activities, Financial and Demographic data, and Training activities.

Likely Respondents: The grantees for MCHB Discretionary Grant Programs.

Burden Statement: Burden in this context means the time expended by persons to generate, maintain, retain, disclose, or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Responses per respondent | Total responses | Burden hours per response | Total burden hours
Project Abstract | 817 | 1 | 817 | 1.33 | 1,087
Project Abstract (Research Projects Only) | 58 | 1 | 58 | 0.66 | 38
Financial Form | 817 | 1 | 817 | 0.87 | 711
Health Equity | 817 | 1 | 817 | 0.47 | 384
Direct and Enabling Services | 476 | 1 | 476 | 1.89 | 900
Training and Workforce Development | 250 | 1 | 250 | 2.42 | 605
Partnerships and Collaboration | 380 | 1 | 380 | 1.04 | 395
Engagement of Persons with Lived Experience | 416 | 1 | 416 | 1.58 | 657
Technical Assistance | 300 | 1 | 300 | 2.24 | 672
Outreach and Education | 500 | 1 | 500 | 0.61 | 305
Research | 65 | 1 | 65 | 3.11 | 202
Guidelines and Policy | 78 | 1 | 78 | 0.70 | 55
Data and Information Systems | 50 | 1 | 50 | 0.67 | 34
Quality Improvement and Evaluation | 346 | 1 | 346 | 0.29 | 100
Knowledge Change | 200 | 1 | 200 | 1.64 | 328
Behavior Change | 200 | 1 | 200 | 1.56 | 312
Products and Publications | 672 | 1 | 672 | 4.23 | 2,843
Training Form 2 | 168 | 1 | 168 | 0.69 | 116
Training Form 3 | 41 | 1 | 41 | 0.99 | 41
Training Form 4 | 130 | 1 | 130 | 1.52 | 198
Training Form 7 | 6 | 1 | 6 | 0.83 | 5
Training Form 8 | 6 | 1 | 6 | 0.75 | 5
Training Form 9 | 6 | 1 | 6 | 0.92 | 6
Training Form 14 | 6 | 1 | 6 | 3.64 | 22
Training Form 15 | 52 | 1 | 52 | 3.17 | 165
Faculty and Staff Information | 124 | 1 | 124 | 1.92 | 238
Short-Term Trainees | 8 | 1 | 8 | 0.67 | 5
Medium-Term Trainees | 121 | 1 | 121 | 2.49 | 301
Long-Term Trainees | 112 | 1 | 112 | 6.37 | 713
Former Long-Term Trainees | 106 | 1 | 106 | 1.60 | 170
LEAP Trainee Information | 6 | 1 | 6 | 0.65 | 4
HS 4 | 101 | 1 | 101 | 0.57 | 58
HS 10 | 101 | 1 | 101 | 0.31 | 31
HS 11 | 101 | 1 | 101 | 0.61 | 62
HS 12 | 101 | 1 | 101 | 0.33 | 33
HS 13 | 101 | 1 | 101 | 0.50 | 51
HS 14 | 101 | 1 | 101 | 0.43 | 43
HS 15 | 101 | 1 | 101 | 0.45 | 45
HS 16 | 101 | 1 | 101 | 0.39 | 39
HS 17 | 101 | 1 | 101 | 0.40 | 40
HS 18 | 101 | 1 | 101 | 0.33 | 33
HS 19 | 101 | 1 | 101 | 0.38 | 38
HS 20 | 101 | 1 | 101 | 0.37 | 37
HS 21 | 101 | 1 | 101 | 0.36 | 36
Healthy Start Site Form | 101 | 1 | 101 | 0.32 | 32
EMSC 4 | 58 | 1 | 58 | 0.92 | 53
EMSC 8 | 58 | 1 | 58 | 0.09 | 5
EMSC 9 | 58 | 1 | 58 | 0.42 | 24
EMSC 10 | 58 | 1 | 58 | 0.46 | 27
F2F 1 | 59 | 1 | 59 | 2.76 | 163
Form 10 | 200 | 2 | 400 | 12.87 | 5,148
Total | * 817 |  | 817 |  | 17,616
* The number of grantees is an estimate as it fluctuates each year.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-16514 Filed 8-2-23; 8:45 am]

BILLING CODE 4165-15-P